DEPARTMENT OF THE INTERIOR

Bureau of Land Management

[OR-010-1020-PK; HAG 04-0026]

Meeting Notice for the Southeast Oregon Resource Advisory Council

AGENCY: Bureau of Land Management (BLM), Lakeview District.

SUMMARY: The Southeast Oregon Resource Advisory Council (SEORAC) will hold a meeting for all members from 8 a.m. to 5 p.m. Pacific Time (PT), Monday, December 8, 2003 and 8 a.m. to 2 p.m. (PT) on Tuesday, December 9, 2003 at the BLM, Burns District Office. The meeting is open to the public. Members of the public in the Burns area may attend the meeting in person at the Burns District Office, Conference Room, HC 74-12533, Hwy 20 West, Hines, Oregon 97738.

The meeting topics that may be discussed by the Council include a discussion of issues within Southeast Oregon related to: Welcome new members, Set 2004 meeting dates, Update on National Fire Plan implementation, Healthy Forest Initiative as it relates to Eastern Oregon, Noxious Weeds—update and explanation on national process, Report/Update on Sage Grouse Conservation Plan, Report/Update on Sustainable Working Landscapes, Tour of Burns Wild Horse facility. Update on Steens Mountain Advisory Council activities, Update on Steens/Andrews RMP/EIS, SEORAC Subcommittee meetings and reports, Summary of Rangeland Health Assessment process, Federal Officials' update and other issues that may come before the Council.

Information to be distributed to the Council members is requested in written format 10 days prior to the Council meeting. Public comment is scheduled for 11:15 a.m. to 11:45 a.m. (PT) on Monday, December 8, 2003.

FOR FURTHER INFORMATION CONTACT: Additional information concerning the SEORAC conference call may be obtained from Pam Talbott, Contact Representative, Lakeview Interagency Office, 1301 South G Street, Lakeview, OR 97630 (541) 947-6107, or ptalbott@or.blm.gov and/or from the following Web site <http://www.or.blm.gov/SEOR-RAC>.

Dated: November 10, 2003.
Steven A. Ellis,
District Manager.

[FR Doc. 03-28601 Filed 11-14-03; 8:45 am]

BILLING CODE 4310-33-P